FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 21, 2023.

A. Federal Reserve Bank of Dallas (Karen Smith, Director, Mergers & Acquisitions) 2200 North Pearl Street, Dallas, Texas 75201-2272. Comments can also be sent electronically to Comments.applications@dal.frb.org:

1. John M. Moore, as trustee of the John M. Moore 2003 Exempt Family Trust, the Thomas Blake Moore 2021 Exempt Trust, the Hunter Marshall Moore 2021 Exempt Trust and as Managing Partner of JPM Interests Ltd., all of Wolfforth, Texas, and as co-trustee of the James Todd Moore Exempt Lifetime Trust, Dallas, Texas; Melissa Thoveson, as trustee of the Ryan Butler Thoveson 2021 Exempt Trust, the Alec Steele Thoveson 2021 Exempt Trust, the Melissa A. Thoveson 2003 Exempt Family Trust, and as co-trustee of the James Todd Moore Exempt Lifetime Trust, all of Dallas, Texas; and James Todd Moore, Dallas, Texas; to become members of the Moore Family Group, a group acting in concert, to retain voting shares of Americo Bancshares, Inc., and indirectly retain voting shares of American Bank of Commerce, both of Wolfforth, Texas.

Board of Governors of the Federal Reserve System.
Michele Taylor Fennell,
Deputy Associate Secretary of the Board.

[FR Doc. 2023-02474 Filed 2-3-23; 8:45 am]

BILLING CODE P